Title 3—

The President

Proclamation 8684 of May 31, 2011

African-American Music Appreciation Month, 2011

By the President of the United States of America

A Proclamation

The music of our Nation has always spoken to the condition of our people and reflected the diversity of our Union. African-American musicians, composers, singers, and songwriters have made enormous contributions to our culture by capturing the hardships and aspirations of a community and reminding us of our shared values. During African-American Music Appreciation Month, we honor the rich musical traditions of African-American musicians and their gifts to our country and our world.

From the cadenced hums of spirituals to the melodies of rhythm and blues, African-American music has been used to communicate, to challenge, to praise, and to uplift in times of both despair and triumph. The rhythmic chords embedded in spirituals have long expressed a deep faith in the power of prayer, and brought hope to slaves toiling in fields. The soulfulness of jazz and storytelling in the blues inspired a cultural renaissance, while the potent words of gospel gave strength to a generation that rose above the din of hatred to move our country toward justice and equality for all.

Today, African-American musicians continue to create new musical genres and transform the scope of traditional musical formats. The artistic depth of soul, rock and roll, and hip-hop not only bring together people across our Nation, but also energize and shape the creativity of artists around the world. The contributions of African-American composers and musicians to symphony, opera, choral music, and musical theater continue to reach new audiences and encourage listeners to celebrate fresh interpretations of these and other genres. In cherished songs passed down through generations and innovative musical fusions crafted today, African-American music continues to transcend time, place, and circumstance to provide a source of pride and inspiration for all who hear its harmonies. This month, we celebrate the legacy of African-American music and its enduring power to bring life to the narrative of our Nation.

NOW, THEREFORE, I, BARACK OBAMA, President of the United States of America, by virtue of the authority vested in me by the Constitution and laws of the United States, do hereby proclaim June 2011 as African-American Music Appreciation Month. I call upon public officials, educators, and all the people of the United States to observe this month with appropriate activities and programs that raise awareness and foster appreciation of music which is composed, arranged, or performed by African Americans.

IN WITNESS WHEREOF, I have hereunto set my hand this thirty-first day of May, in the year of our Lord two thousand eleven, and of the Independence of the United States of America the two hundred and thirty-fifth.

[FR Doc. 2011-14170

Filed 6-6-11; 8:45 am]

Billing code 3195-W1-P